DEPARTMENT OF HEALTH AND HUMAN SERVICES

Health Care Financing Administration

[Document Identifier: HCFA-R-228]

Emergency Clearance: Public Information Collection Requirements Submitted to the Office of Management and Budget (OMB)

AGENCY: Health Care Financing Administration.

In compliance with the requirement of section 3506(c)(2)(A) of the Paperwork Reduction Act of 1995, the Health Care Financing Administration (HCFA), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the Information collections referenced below. In compliance with the requirement of section 3506(c)(2)(A) of the Paperwork Reduction Act of 1995, we have submitted to the Office of Management and Budget (OMB) the following requirements for emergency review. Due to an unanticipated event and the fact that this collection of this information is needed before the expiration of the normal time limits under OMB's regulations at 5 CFR part 1320, we are requesting an emergency review.

In an effort to comply with OMB's terms of clearance, HCFA hired a contractor to conduct a study of issues raised by the ACR form in use at the time, and to develop recommendations to further reduce the workload needed to complete a new form. The project took longer to complete than expected which delayed the submission of the form for OMB approval. However, the statute (section 1854(a) of the Social Security Act) specifically requires this report to be submitted to HCFA by July 1 of each year. The form is used to price the M+C plan to be offered to Medicare beneficiaries and HCFA must approve the pricing structure of the M+C plan before it can be offered to Medicare beneficiaries.

We feel significant improvements were made to the form which are intended to simplify the methodology and submission, to reduce the amount of reporting burden and backup needed, and to provide more flexibility to users.

HCFA is requesting OMB review and approval of this collection by June 1, 2000, with a 180-day approval period. Written comments and recommendations will be accepted from the public if received by the individuals designated below by May 22, 2000. During this 180-day period, we will publish a separate Federal Register notice announcing the initiation of an extensive 60-day agency review and public comment period on these requirements. We will submit the requirements for OMB review and an extension of this emergency approval.

Type of Information Collection Request: Revision of a currently approved collection;

Title of Information Collection: Adjusted Community Rate (ACR) and Supporting Regulations in 42 CFR 422.306, 422.501, and 422.510;

Form No.: HCFA-R-228 (OMB# 0938-0742);

Use: This collection effort will be used to price the M+C plan offered to Medicare beneficiaries by an M+C organization. Organizations submitting the Adjusted Community Rate form would include all M+C organizations plus any organization intending to contract with HCFA as a M+C organization. These current M+C organization contractors will be required to submit this form no later than July 1, 2000 for the calendar year 2001.;

Frequency: Annually;

Affected Public: Businesses or other for profit, Not-for-profit institutions;

Number of Respondents: 1,200;

Total Annual Responses: 1,200;

Total Annual Hours Requested: 114,000.

To obtain copies of the supporting statement and any related forms for the proposed paperwork collections referenced above, access HCFA's Web Site address at http://www.hcfa.gov/regs/prdact95.htm, or E-mail your request, including your address, phone number, to Paperwork@hcfa.gov, or call the Reports Clearance Office on (410) 786-1326.

Interested persons are invited to send comments regarding the burden or any other aspect of these collections of Information requirements. However, as noted above, comments on these Information collection and recordkeeping requirements must be mailed and/or faxed to the designees referenced below, by May 22, 2000:

Health Care Financing Administration, Office of Information Services, Security and Standards Group, Division of HCFA Enterprise Standards, Attention: Dawn Willinghan, Room N2-14-26, 7500 Security Boulevard, Baltimore, Maryland 21244-1850;

and

Office of Information and Regulatory Affairs, Office of Management and Budget, Room 10235, New Executive Office Building, Washington, DC 20503, Fax Number: (202) 395-6974 or (202) 395-5167, Attn: Allison Herron Eydt, HCFA Desk Officer.

Dated: April 4, 2000.
John P. Burke III,
HCFA Reports Clearance Officer, HCFA Office of Information Services, Security and Standards Group, Division of HCFA Enterprise Standards.

[FR Doc. 00-8865 Filed 4-10-00; 8:45 am]

BILLING CODE 4120-03-P